DEPARTMENT OF JUSTICE

FY 2017 and FY 18 Service Contracts Inventory and Inventory Supplement

AGENCY: Justice Management Division, Department of Justice.

ACTION: Notice.

SUMMARY: In accordance with Section 743 of Division C of the FY 2010 Consolidated Appropriations Act, the Department of Justice is publishing this notice to advise the public of the availability of its FY 2017 and FY 18 Service Contracts Inventory and Inventory Supplement. The inventory includes service contract actions over $25,000 that were awarded in Fiscal Year (FY) 2017 and 2018. The inventory supplement includes information collected from contractors on the amount invoiced and direct labor hours expended for covered service contracts. The Department of Justice analyzes this data for the purpose of determining whether its contract labor is being used in an effective and appropriate manner and if the mix of federal employees and contractors in the agency is effectively balanced. The inventory and supplement do not include contractor proprietary or sensitive information. The FY 2017 and 2018 Service Contract Inventory and Inventory Supplements are provided at the following link: https://www.justice.gov/jmd/service-contract-inventory.

FOR FURTHER INFORMATION CONTACT: Kevin Doss, Office of Acquisition Management, Justice Management Division, U.S. Department of Justice, Washington, DC 20530; Phone: 202-616-3758; Email: Kevin.Doss@usdoj.gov

Dated: June 24, 2020.
Melody Braswell,
Department Clearance Officer for PRA, U.S. Department of Justice.

[FR Doc. 2020-13979 Filed 6-26-20; 8:45 am]

BILLING CODE 4410-DH-P